COMMISSION ON CIVIL RIGHTS

Agenda and Notice of Public Meeting of the New York Advisory Committee

AGENCY: Commission on Civil Rights.

ACTION: Announcement of briefing meeting.

SUMMARY: Notice is hereby given, pursuant to the provisions of the rules and regulations of the U.S. Commission on Civil Rights (Commission), and the Federal Advisory Committee Act (FACA), that a briefing meeting of the New York Advisory Committee to the Commission will convene at 9:00 a.m. (EDT) on Wednesday, June 12, 2019 and Thursday, June 13, 2019 in the Auditorium of CUNY School of Law, 2 Court Square, Long Island City, NY 11101. The purpose of the briefing is to examine whether New York State is depriving its students of equal access to a state constitution mandated “sound basic education”, and the effect that failure has had particularly on the black and latinx communities. The Committee will also look at the possible implications of the allocation of Foundation Aid or the failure of New York State to allocate sufficient funds for education. Persons who plan to attend the meeting that require accommodations, please contact Carolyn Allen at CAllen@usccr.gov at the at least ten (10) days before the scheduled date of the meeting.

Time will be set aside at the end of the briefing so that members of the public may address the Committee after the formal presentations have been completed. Persons interested in the issue are also invited to submit written comments; the comments must be received in the regional office by Friday, July 12, 2019. Written comments may be mailed to the Regional Programs Coordination Unit, U.S. Commission on Civil Rights, 230 S Dearborn Street, Suite 2120, Chicago, IL 60604, or faxed to (312) 353-8311, or emailed to David Barreras at dbarreras@usccr.gov. Persons who desire additional information may contact the Regional Programs Coordination Unit (RPCU) Office at (312) 353-8311.

Records and documents discussed during the meeting will be available for public viewing as they become available at https://www.facadatabase.gov/FACA/apex/FACAPublicCommittee?id=a10t0000001gzmAAAQ and clicking on the “Meeting Details” and “Documents” links. Records generated from this meeting may also be inspected and reproduced at the RPCU office, as they become available, both before and after the meeting. Persons interested in the work of this advisory committee are advised to go to the Commission's website, www.usccr.gov, or to contact the RPCU at the above phone number, email or street address.

Tentative Agenda

Wednesday, June 12, 2019

I. Welcome and Introductions: 9:00 a.m.

II. Briefing: 9:15 a.m. to 6:00 p.m.

Panel One—9:15 a.m. to 10:45 a.m. (Education Executive Level)

Panel Two—10:45 a.m. to 12:00 p.m. (Policy Analysis)

Panel Three—12:15 p.m. to 1:30 p.m. (Education post-secondary)

Panel Four- 2:15 p.m. to 3:15 p.m. (Education Executive Level)

Panel Five—3:15 p.m. to 4:45 p.m. Elected Officials (Schools—Accountability)

Panel Six—Elected Officials (Low-Level Enforcement/Broken Windows)

III. Open Session: 6:15 p.m.

IV. Adjournment

Thursday, June 13, 2019

I. Welcome and Introductions: 9:00 a.m. to 9:15 a.m.

II. Briefing: 9:15 a.m. to 6:00 p.m.

Panel One—9:15 a.m. to 10:15 a.m. (Advocates)

Panel Two—10:15 a.m. to 11:45 a.m. (Policy Analysis)

Panel Three—12:00 p.m. to 1:15 p.m. (Economic Analysis)

Panel Four—2:00 p.m. to 3:00 p.m. (Advocates)

Panel Five—3:00 p.m. to 4:00 p.m. (Advocates)

III. Open Session—4:00 p.m. to 5:00 p.m.

IV. Adjournment

Dates:

Wednesday, June 12, 2019 (EDT)

Thursday, June 13, 2019 (EDT)

Time: 9:00 a.m.—Briefing, Meeting, and Public Session

ADDRESSES: CUNY School of Law, Auditorium, 2 Court Square, Long Island City, NY 11101.

FOR FURTHER INFORMATION CONTACT: David Barreras at dbarreras@usccr.gov, or 312-353-8311.

David Mussatt,
Chief, Regional Programs Unit.

[FR Doc. 2019-11360 Filed 5-30-19; 8:45 am]

BILLING CODE P